DEPARTMENT OF HEALTH AND HUMAN SERVICES

National Institutes of Health

Office of the Director; Amended Notice of Meeting

Notice is hereby given of a change in the meeting of the Advisory Committee to the Director, National Institutes of Health, September 17, 2015, 3:00 p.m. to 5:00 p.m., that was published in the Federal Register on Monday, August 20, 2015, 80 FR 50642.

The time of the meeting is changed from 3:00 p.m. to 5:00 p.m. to 1:00 to 3:00 p.m. The agenda will also include an update from the HeLa Working Group.

This meeting is open to the public but is being held by teleconference only. No physical meeting location is provided for any interested individuals to listen to committee discussions. Any individual interested in listening to the meeting discussions must call: 877-917-9486 and use Passcode: 8027865, for access to the meeting.

Dated: September 9, 2015.
Anna Snouffer,
Deputy Director, Office of Federal Advisory Committee Policy.

[FR Doc. 2015-23084 Filed 9-14-15; 8:45 am]

BILLING CODE 4140-01-P